DEPARTMENT OF THE INTERIOR

Fish and Wildlife Service

[FWS-R3-ES-2008-N0142; 30120-1113-0000-F6]

Endangered and Threatened Species Permit Applications

AGENCY: Fish and Wildlife Service, Interior.

ACTION: Notice of availability of permit applications; request for comments.

SUMMARY: The following applicants have applied for permits to conduct certain activities with endangered species.

DATES: We must receive written comments on or before July 17, 2008.

ADDRESSES: Regional Director, Attn: Peter Fasbender, U.S. Fish and Wildlife Service, Ecological Services, 1 Federal Drive, Fort Snelling, MN 55111-4056; electronic mail, permitsR3ES@fws.gov.

FOR FURTHER INFORMATION CONTACT: Peter Fasbender (612) 713-5343.

Information

Endangered Species

The Endangered Species Act of 1973, as amended (16 U.S.C. 1531 et seq.) (Act), with some exceptions, prohibits activities affecting endangered species unless authorized by a permit from the Service. Before issuing a permit, we invite public comment on it. Accordingly, we invite public comment on the following applicants' permit applications for certain activities with endangered species authorized by section 10(a)(1)(A) of the Act and the regulations governing the taking of endangered species (50 CFR 17). Submit your written data, comments, or request for a copy of the complete application to the address shown in ADDRESSES.

Permit Number: TE842313

Applicant: Illinois State Museum, Springfield, Illinois.

The applicant requests a permit renewal to take Hine's emerald dragonfly (Somatochlora hineana) throughout the species' range in Alabama, Arkansas, Connecticut, Delaware, District of Columbia, Georgia, Illinois, Indiana, Iowa, Kentucky, Maine, Maryland, Massachusetts, Michigan, Minnesota, Missouri, New Hampshire, New Jersey, New York, North Carolina, Ohio, Oklahoma, Pennsylvania, Rhode Island, South Carolina, Tennessee, Vermont, Virginia, West Virginia, and Wisconsin. This permit renewal is requested to continue long-term scientific studies to determine the presence or absence of the species within suitable habitats, to document new population sites through surveys, genetic study, and the taking of voucher specimens to document populations. Proposed research activities are aimed at enhancement of recovery of the species in the wild.

Permit Number: TE184740

Applicant: Theresa Sydney Burke, Beaver, West Virginia.

The applicant requests a permit to take the Indiana bat (Myotis sodalis), Gray bat (Myotis grisescens), and Virginia big-eared bat (Corynorhinus townsendii virginianus) throughout the range of the species. The activities proposed involve capture and marking of individual bats to identify populations of this listed species and to develop methods to minimize or avoid project related impacts. The surveys are used to formulate project features aimed at enhancement of survival of the species in the wild.

Public Comments

We solicit public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the activities proposed in these permits are categorically excluded from the requirement to prepare an environmental assessment or environmental impact statement.

Dated: June 3, 2008.
Lynn M. Lewis,
Assistant Regional Director, Ecological Services, Region 3, Fort Snelling, Minnesota.

[FR Doc. E8-13601 Filed 6-16-08; 8:45 am]

BILLING CODE 4310-55-P